DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, Voting and Registration Supplement.

OMB Control Number: 0607-0466.

Form Number(s): There are no forms. We conduct all interviews on computers.

Type of Request: Regular Submission.

Number of Respondents: 52,000.

Average Hours per Response: 1.5 minutes.

Burden Hours: 1,300.

Needs and Uses: This survey has provided statistical information for tracking historical trends of voter and nonvoter characteristics in each Presidential or Congressional election since 1964. The data collected from the November supplement relates demographic characteristics (age, sex, race, education, occupation, and income) to voting and nonvoting behavior. The November CPS supplement is the only source of data that provides a comprehensive set of voter and nonvoter characteristics distinct from independent surveys, media polls, or other outside agencies. Federal, state, and local election officials use these data to formulate policies relating to the voting and registration process. College institutions, political party committees, research groups, and other private organizations also use the voting and registration data.

Affected Public: Individuals or households.

Frequency: Biennial.

Respondent's Obligation: Voluntary.

Legal Authority: Title 13 U.S.C. Section 141 and 182; and Title 29, U.S.C., Sections 1-9.

This information collection request may be viewed at www.reginfo.gov. Follow the instructions to view Department of Commerce collections currently under review by OMB.

Written comments and recommendations for the proposed information collection should be sent within 30 days of publication of this notice to OIRA_Submission@omb.eop.gov or fax to (202)395-5806.

Dated: June 27, 2016.
Glenna Mickelson,
Management Analyst, Office of the Chief Information Officer.

[FR Doc. 2016-15498 Filed 6-29-16; 8:45 am]

BILLING CODE 3510-07-P